DEPARTMENT OF TRANSPORTATION

Federal Aviation Administration

Notice of Proposed Release From the Grant Assurance Obligations To Allow a Portion of Airport Property To Be Used for Non-Aeronautical Purposes at Syracuse Hancock International Airport (SYR), Syracuse, New York

AGENCY: Federal Aviation Administration (FAA), DOT.

ACTION: Notice of request to release airport land to be used for non-aeronautical purposes through a long term lease.

SUMMARY: The FAA proposes to rule and invites public comment on the application for a release of approximately 20.24 acres of federally obligated airport property at Syracuse Hancock International Airport, Syracuse, New York, from conditions, reservations, and restrictions contained in Airport Improvement Program (AIP) grants. This acreage is composed of portions of three parcels. The first two parcels consists of 11.75 acres and 6.29 acres that were acquired without federal assistance. The third parcel consists of 2.20 acres that was acquired by the City of Syracuse through AIP Grant 3-36-0114-02-83. The release will allow the airport to enter into a long-term non-aeronautical lease for mixed-use commercial development. The proposed use of land after the release will be compatible with the airport and will not interfere with the airport or its operation.

DATES: Comments must be received on or before March 31, 2023.

FOR FURTHER INFORMATION CONTACT: Comments on this application may be submitted to Janine Abyad, Federal Aviation Administration, New York Airports District Office via phone at (718) 995-5793 or at the email address Janine.Abyad@faa.gov. Comments on this application may also be mailed or delivered to the FAA at the following address: Evelyn Martinez, Manager, Federal Aviation Administration, New York Airports District Office, Federal Register Comment, 1 Aviation Plaza, Jamaica, New York 11434.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The City of Syracuse requested a release from grant assurances to allow a change in use for approximately 20.24 acres of airport property at Syracuse Hancock International Airport to enable the mixed-use commercial development. Specifically, the release request seeks approval to allow for the permanent non-aeronautical use of the property, and a long-term non-aeronautical lease to be entered into for the property.

The airport will retain ownership of the 20.24 acres and will receive fair market value rent for the length of the agreement. The rental income will be devoted to airport operations and capital projects. The proposed use of the property will not interfere with the airport or its operation; and will thereby, serve the interests of civil aviation.

Issued in Jamaica, New York on February 24, 2023.
Sukhbir Gill,
Acting Manager, New York Airports District Office.

[FR Doc. 2023-04158 Filed 2-28-23; 8:45 am]

BILLING CODE 4910-13-P